DEPARTMENT OF LABOR

Employment Standards Administration

29 CFR Parts 403 and 408

RIN 1215-AB62

Office of Labor-Management Standards; Labor Organization Annual Financial Reports

AGENCY: Office of Labor-Management Standards, Employment Standards Administration, United States Department of Labor.

ACTION: Proposed rule; extension of comment period.

SUMMARY: This document extends the period for comments on the proposed rule published on May 12, 2008 (73 FR 27346). The proposed rule would make several revisions to the current Form LM-2, which is used by the largest labor organizations to file their annual financial reports under the Labor-Management Reporting and Disclosure Act of 1959, as amended, and would establish a procedure and standards by which the Secretary of Labor may revoke a particular labor organization's privilege to file a simplified annual report, Form LM-3, for a limited time where appropriate, after investigation, due notice and opportunity for a hearing. The comment period, which was to expire on June 26, 2008, is extended to July 11, 2008.

DATES: Comments on the proposed rule published on May 12, 2008 (73 FR 27346) must be received on or before July 11, 2008.

ADDRESSES: You may submit comments, identified by RIN 1215-AB62, by any of the following methods:

Internet—Federal eRulemaking Portal. Electronic comments may be submitted through www.regulations.gov. To locate the proposed rule, use key words such as “Labor-Management Standards” or “Form LM-2” to search documents accepting comments. Follow the instructions for submitting comments. Please be advised that comments received will be posted without change to www.regulations.gov, including any personal information provided.

Mail: Mailed comments should be sent to: Kay H. Oshel, Director of the Office of Policy, Reports and Disclosure, Office of Labor-Management Standards, U.S. Department of Labor, 200 Constitution Avenue, NW., Room N-5609, Washington, DC 20210.

Because of security precautions, the Department continues to experience delays in U.S. mail delivery. You should take this into consideration when preparing to meet the deadline for submitting comments.

Ensure that your comments are received within the specified open comment period. Before acting on this proposal, OLMS will consider all comments received on or before July 11, 2008. Comments received after that date will be considered only if it is possible to do so without incurring delay.

OLMS recommends that you confirm receipt of your mailed comments by contacting (202) 693-0123 (this is not a toll-free number). Individuals with hearing impairments may call (800) 877-8339 (TTY/TDD).

Only those comments submitted through www.regulations.gov, hand-delivered, or mailed will be accepted.

Comments will be available for public inspection during normal business hours at the above address.

FOR FURTHER INFORMATION CONTACT: Kay H. Oshel, Director of the Office of Policy, Reports and Disclosure, at: Kay H. Oshel, U.S. Department of Labor, Office of Labor-Management Standards, 200 Constitution Avenue, NW., Room N-5609, Washington, DC 20210, (202) 693-1233 (this is not a toll-free number), (800) 877-8339 (TTY/TDD).

SUPPLEMENTARY INFORMATION: In the Federal Register of May 12, 2008 (73 FR 27346), the Department published a notice of proposed rulemaking that would make several revisions to Form LM-2 and would establish a procedure and standards by which the Secretary of Labor may revoke a particular labor organization's privilege to file a simplified annual report, Form LM-3, for a limited time where appropriate, after investigation, due notice and opportunity for a hearing.

Interested persons were invited to submit comments on or before June 26, 2008, 45 days after the publication of the notice. Based on requests that the Department extend the period for submitting comments, the Department has decided to extend the comment period until July 11, 2008.

The proposed rule, including the proposed revised Form LM-2 and its instructions, is available on the Web site maintained by OLMS at http://www.olms.dol.gov. Anyone who is unable to access this information on the Internet can obtain the information by contacting the Employment Standards Administration at 200 Constitution Avenue, NW., Room N-5609, Washington, DC 20210, at olms-public@dol.gov or at (202) 693-0123 (this is not a toll-free number). Individuals with hearing impairments may call 1-800-877-8339 (TTY/TDD).

Signed at Washington, DC, this 13th day of June, 2008.
Dixon M. Wilson,
Deputy Assistant Secretary for Employment Standards.
Don Todd,
Deputy Assistant Secretary for Labor-Management Programs.

[FR Doc. E8-13837 Filed 6-18-08; 8:45 am]

BILLING CODE 4510-CM-P